DEPARTMENT OF EDUCATION

Federal Need Analysis Methodology for the 2016-17 Award Year—Federal Pell Grant, Federal Perkins Loan, Federal Work-Study, Federal Supplemental Educational Opportunity Grant, William D. Ford Federal Direct Loan, Iraq and Afghanistan Service Grant and TEACH Grant Programs

Correction

In notice document 2015-12803 beginning on page 30217 in the issue of Wednesday, May 27, 2015, make the following correction:

On page 30220, the table titled “INDEPENDENT STUDENTS WITH DEPENDENTS OTHER THAN A SPOUSE” is corrected in part to read as follows:

Independent Students With Dependents Other Than a Spouse—Continued
If the age of the student is | And they are: Married | And they are: Single
| Then the education savings and asset protection allowance is
* * * * * * *
64 | 10,400 | 5,700
* * * * * * *

[FR Doc. C1-2015-12803 Filed 6-8-15; 8:45 am]

BILLING CODE 1505-01-D